ENVIRONMENTAL PROTECTION AGENCY

40 CFR Part 52

[EPA-R06-OAR-2014-0191; FRL-9908-26-Region6]

Approval and Promulgation of Implementation Plans; Texas; Revisions to the Minor New Source Review (NSR) State Implementation Plan (SIP); Types of Standard Permits, State Pollution Control Project Standard Permit and Control Methods for the Permitting of Grandfathered and Electing Electric Generating Facilities

AGENCY: Environmental Protection Agency (EPA).

ACTION: Proposed rule.

SUMMARY: The Environmental Protection Agency (EPA) is proposing to approve several revisions to the Texas State Implementation Plan (SIP) related to the Texas Minor New Source Review (NSR) Standard Permits (SP) Program. First, EPA is approving revisions submitted by the Texas Commission on Environmental Quality (TCEQ, or Commission) on January 3, 2000, and March 11, 2011, expanding the Texas SP Program to include the Rule Standard Permit (Rule SP). The EPA is also proposing to approve a revision to the Texas SIP submitted by the TCEQ on February 1, 2006, for a specific Rule SP, the Rule Standard Permit for Pollution Control Projects (Rule SP for PCP) as meeting the requirements for a Minor NSR SIP revision. Finally, because EPA is proposing to approve the Rule SP for PCP, EPA is also proposing to approve a severable portion of the January 3, 2000, submittal concerning the Texas Senate Bill 7 (SB7) permitting program for grandfathered and electing electric generating facilities (EGFs). All of the Texas SB7 EGFs permitting program provisions have been approved as part of the Texas NSR SIP except for this severable portion. This severable portion allowing for the use of the Rule SP for PCP for permitting of collateral emission increases is being proposed for approval as meeting the requirements for a Minor NSR SIP revision. EPA is proposing these actions under section 110 of the Federal Clean Air Act (the Act or CAA) through a direct final rulemaking.

DATES: Written comments should be received on or before May 1, 2014.

ADDRESSES: Comments may be mailed to Ms. Adina Wiley, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Rick Barrett, (214) 665-7227, barrett.richard@epa.gov. Adina Wiley, (214) 665-2115, wiley.adina@epa.gov.

SUPPLEMENTARY INFORMATION: In the final rules section of this Federal Register, EPA is approving the State's SIP submittal as a direct rule without prior proposal because the Agency views this as noncontroversial submittal and anticipates no adverse comments. A detailed rationale for the approval is set forth in the direct final rule. If no relevant, adverse comments are received in response to this action no further activity is contemplated. If EPA receives relevant, adverse comments, the direct final rule will be withdrawn and all public comments received will be addressed in a subsequent final rule based on this proposed rule. EPA will not institute a second comment period. Any parties interested in commenting on this action should do so at this time.

For additional information, see the direct final rule which is located in the rules section of this Federal Register.

Dated: March 21, 2014.
Ron Curry,
Regional Administrator, Region 6.

[FR Doc. 2014-07128 Filed 3-31-14; 8:45 am]

BILLING CODE 6560-50-P